DEPARTMENT OF THE INTERIOR

Bureau of Land Management

[LLWO250000.L12200000.PM0000]

Information Collection; Permits for Recreation on Public Lands; OMB Control Number 1004-0119

AGENCY: Bureau of Land Management, Department of the Interior.

ACTION: 30-Day notice and request for comments.

SUMMARY: The Bureau of Land Management (BLM) has submitted an information collection request to the Office of Management and Budget (OMB) to continue the collection of information that enables the BLM to evaluate and process applications for commercial, competitive, and organized group recreational uses of the public lands, and individual use of special areas. The Office of Management and Budget (OMB) has assigned control number 1004-0119 to this collection.

DATES: The OMB is required to respond to this information collection request within 60 days but may respond after 30 days. For maximum consideration written comments should be received on or before November 18, 2016.

ADDRESSES: Submit comments directly to the Desk Officer for the Department of the Interior (OMB #1004-0119), Office of Management and Budget, Office of Information and Regulatory Affairs, fax 202-395-5806, or by electronic mail at: mailto:OIRA_submission@omb.eop.gov. Please provide a copy of your comments to the BLM via mail, fax, or electronic mail, as follows:

Mail: U.S. Department of the Interior, Bureau of Land Management,1849 C Street NW., Room 2134LM, Attention: Jean Sonneman, Washington, DC 20240.

Fax: to Jean Sonneman at 202-245-0050.

Electronic mail: jesonnem@blm.gov.

Please indicate “Attn: 1004-0119” regardless of the form of your comments.

FOR FURTHER INFORMATION CONTACT: David Ballenger at 202-912-7642. Persons who use a telecommunication device for the deaf may call the Federal Information Relay Service on 1-800-877-8339, to leave a message for Mr. Ballenger. You may also review the information collection request online at http://www.reginfo.gov/public/do/PRAMain.

SUPPLEMENTARY INFORMATION: The Paperwork Reduction Act (44 U.S.C. 3501-3521) and OMB regulations at 5 CFR 1320 provide that an agency may not conduct or sponsor a collection of information unless it displays a currently valid OMB control number. Until OMB approves a collection of information, you are not obligated to respond. In order to obtain and renew an OMB control number, Federal agencies are required to seek public comment on information collection and recordkeeping activities. (See 5 CFR 1320.8 (d) and 1320.12(a)).

As required at 5 CFR 1320.8(d), the BLM published a 60-day notice in the Federal Register on June 15, 2016 (81 FR 39064), and the comment period ended August 15, 2016. The BLM received no comments in response to the notice.

The BLM now invites comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as instructed under the headings DATES and ADDRESSES, above. Please refer to OMB Control Number 1004-0119 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Permits for Recreation on Public Lands (43 CFR part 2930).

Forms: Form 2930-1, Special Recreation Permit Application.

OMB Control Number: 1004-0119.

Summary: This collection pertains to the management of recreation on public lands. The BLM is required to manage commercial, competitive and organized group recreational uses of the public lands, and individual use of special areas. This information allows the BLM to collect the required information to authorize and collect fees for recreation use on public lands. The currently approved information collection consists of the collection in accordance with 43 CFR part 2930, and Form 2930-1 (Special Recreation Permit Application and Permit).

Frequency of Collection: On occasion.

Estimated Annual Responses: 1,376.

Estimated Annual Burden Hours: 5,504.

Estimated Annual Non-hour Burden Cost: None.

Jean Sonneman,
Bureau of Land Management, Information Collection Clearance Officer.

[FR Doc. 2016-25277 Filed 10-18-16; 8:45 am]

BILLING CODE 4310-84-P